Title 3—

The President

Proclamation 9426 of April 21, 2016

Earth Day, 2016

By the President of the United States of America

A Proclamation

On April 22, 1970, millions of people from every corner of our country joined in common cause to demand basic protections to safeguard our planet for future generations. The first Earth Day helped transform the ways we interact with the world around us, and it changed how we view our impact on the natural world—inspiring the creation of the Environmental Protection Agency and landmark legislation that protects the air we breathe, the water we drink, and the animals that live alongside us. Today, we resolve to build on the progress made in the nearly half-century since, and we reaffirm our commitment to leaving a clean, healthy Earth for our children and grandchildren.

Just as the people who came together on Earth Day in 1970 embraced their responsibility to preserve our planet, today we face a threat that also requires collective action. Human activity is disrupting the climate, and the challenge of combating climate change is one that will define the contours of our time. The effects of climate change are already evident in stronger storms, deeper droughts, more rapidly eroding soil, and longer wildfire seasons—and as of last year, 14 of the 15 warmest years on record have occurred since 2000. This urgent threat will worsen with each passing year unless we act now.

No country can solve this challenge alone. This Earth Day, nations from across the globe are gathering in New York to sign an agreement reached by nearly 200 countries in Paris late last year that establishes an enduring framework to reduce global carbon pollution and set the world on a path to a low-carbon future. Under the Paris Agreement, countries pledge to limit global warming to 2 degrees Celsius at most, and to pursue efforts to keep it below 1.5 degrees Celsius. Science tells us these levels will help prevent some of the most devastating impacts of climate change, including more frequent and extreme droughts, storms, fires, and floods, as well as catastrophic increases in sea level.

The Paris Agreement demonstrates what is possible when the world is united by a common concern and a shared purpose. The Agreement sets ambitious and specific targets for each nation that are necessary to solving the climate crisis. It applies to all countries, establishes meaningful accountability and reporting requirements, and brings countries back to the table every 5 years to grow their commitments as markets change and technologies improve. It also provides financing mechanisms so developing economies can move forward using clean energy, and it creates a collaborative process through which countries can establish and achieve their targets.

Key to reaching the Paris Agreement was principled American leadership. Over the past decade, the United States has cut our total carbon pollution more than any other nation on Earth. We are committed to upholding our responsibility in the global effort to combat climate change and protect our planet, and my Administration has taken action to reduce our carbon pollution and lead the world in transitioning to a clean energy future. For example, we have made significant investments in clean energy—since I took Office, the amount of electricity generated from wind energy has tripled, and the amount generated from solar energy has increased more than thirtyfold. Last year, I announced the first set of nationwide standards to end the limitless dumping of carbon pollution from our country's power plants. To prepare for the impacts of climate change that we cannot prevent, we are working with States and cities to help communities build climate-resilient infrastructure. And I have protected more public lands and waters than any other President in history—more than 265 million acres.

We each have a role to play in ensuring that we do not pass a world beyond repair on to our children. Everyone must do their part, and as long as we unite to protect the one planet we have, we can leave it in better shape for future generations. On Earth Day, let us all accept our individual responsibilities to care for the world we live in, and let us marshal our best efforts toward building a safer, more stable, and more sustainable world.

NOW, THEREFORE, I, BARACK OBAMA, President of the United States of America, by virtue of the authority vested in me by the Constitution and the laws of the United States, do hereby proclaim April 22, 2016, as Earth Day. I encourage all Americans to participate in programs and activities that will protect our environment and contribute to a healthy, sustainable future.

IN WITNESS WHEREOF, I have hereunto set my hand this twenty-first day of April, in the year of our Lord two thousand sixteen, and of the Independence of the United States of America the two hundred and fortieth.

[FR Doc. 2016-09826

Filed 4-25-16; 8:45 am]

Billing code 3295-F6-P